DEPARTMENT OF JUSTICE

Notice of Lodging of Proposed Consent Decree Under the Toxic Substances Control Act

On September 4, 2025, the Department of Justice lodged a proposed Consent Decree with the United States District Court for the Northern District of Indiana in the lawsuit entitled United States of America v. Homeworks Construction, Inc., Civil Action No. 3:25-cv-749.

The United States filed this lawsuit under the Toxic Substances Control Act (TSCA). The Complaint seeks injunctive relief and civil penalties for violations of TSCA's Renovation, Repair and Painting Rule that governs renovation projects that defendant performed in Indiana and Michigan, primarily in South Bend, Indiana, on houses presumed by law to contain lead paint. The Consent Decree requires defendant to ensure and report on its compliance with the Federal Lead Renovation, Repair and Painting regulations, as well as pay a $10,000 civil penalty, based on a limited ability to pay.

The publication of this notice opens a period for public comment on the Consent Decree. Comments should be addressed to the Assistant Attorney General, Environment and Natural Resources Division, and should refer to United States of America v. Homeworks Construction, Inc., Civil Action No. 3:25-cv-749, D.J. Ref. No. 90-5-2-1-12999. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the Consent Decree may be examined and downloaded at this Justice Department website: https://www.justice.gov/enrd/consent-decrees. If you require assistance accessing the Consent Decree, you may request assistance by email or by mail to the addresses provided above for submitting comments.

Jason A. Dunn,
Assistant Section Chief, Environmental Enforcement Section, Environment and Natural Resources Division.

[FR Doc. 2025-17397 Filed 9-9-25; 8:45 am]

BILLING CODE 4410-15-P